DEPARTMENT OF EDUCATION

[Docket No.: ED-2015-ICCD-0124]

Agency Information Collection Activities; Comment Request; Integrated Postsecondary Education Data System (IPEDS) 2015-2016 Pension Liabilities Update

AGENCY: Institute of Education Sciences (IES)/National Center of Education Statistics (NCES), Department of Education (ED).

ACTION: Notice.

SUMMARY: In accordance with the Paperwork Reduction of 1995 (44 U.S.C. chapter 3507(j)), ED is requesting the Office of Management and Budget (OMB) to conduct an emergency review of a revision of an existing information collection.

DATES: An emergency review has been requested in accordance with the Act (44 U.S.C. chapter 3507 (j)), due to an unanticipated event. Approval by the Office of Management and Budget (OMB) has been requested by November 20, 2015; therefore, comments are requested on or before November 10, 2015. A regular clearance process is also hereby being initiated. Interested persons are invited to submit comments on or before December 21, 2015.

ADDRESSES: To access and review all the documents related to the information collection listed in this notice, please use http://wwww.regulations.gov by searching the Docket ID number ED-2015-ICCD-0124. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For specific questions related to collection activities, please contact Kashka Kubzdela at 202-502-7411 or by email kashka.kubzdela@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Integrated Postsecondary Education Data System (IPEDS) 2015-2016 Pension Liabilities Update.

OMB Control Number: 1850-0582.

Type of Review: A revision of an existing information collection.

Respondents/Affected Public: State, local and tribal governments, Private Sector.

Total Estimated Number of Annual Responses: 71,867.

Total Estimated Number of Annual Burden Hours: 1,050,870.

Abstract: The Integrated Postsecondary Education Data System (IPEDS) is a web-based data collection system designed to collect basic data from all postsecondary institutions in the United States and the other jurisdictions. IPEDS enables The National Center of Education Statistics (NCES) to report on key dimensions of postsecondary education such as enrollments, degrees and other awards earned, tuition and fees, average net price, student financial aid, graduation rates, revenues and expenditures, faculty salaries, and staff employed. The IPEDS web-based data collection system was implemented in 2000-01, and it collects basic data from approximately 7,500 postsecondary institutions in the United States and the other jurisdictions that are eligible to participate in title IV Federal financial aid programs. All title IV institutions are required to respond to IPEDS (section 490 of the Higher Education Amendments of 1992; Pub. L. 102-325). IPEDS allows other (non-title IV) institutions to participate on a voluntary basis. About 200 institutions elect to respond. IPEDS data are available to the public through the College Navigator and IPEDS Web sites.

Additional Information: ED is requesting emergency processing due to an unanticipated event. The Government Accounting Standards Board (GASB) changed the reporting standards for pensions such that unfunded pension liabilities are now included in the financial statements (GASB Standard 68). In the initial reporting year (2015), institutions will report the total amount of accrued pension liabilities. This will result in a dramatic increase in reported expenses for the 2015 year. In subsequent years, reporting will show only the incremental increase in unfunded pension liabilities. The approximately 2,000 public institutions using GASB accounting standards that have ever participated in pension systems will be particularly affected by this change in reporting standards when the IPEDS collection opens on December 9, 2015. To accommodate this change, NCES proposes to add to the IPEDS Finance survey a new screening question and three new fields related to the unfunded pension liabilities to allow the affected institutions to provide information that will allow NCES to correctly calculate cost per Full-Time Enrolled Student for these institutions. This addition is expected to increase IPEDS reporting burden for approximately 2,000 Public GASB institutions by an average of 30 minutes. ED requests approval of this emergency request by November 20, 2015.

Dated: October 15, 2015.
Kate Mullan,
Acting Director, Information Collection Clearance Division, Office of the Chief Privacy Officer (OCPO), Office of Management.

[FR Doc. 2015-26598 Filed 10-19-15; 8:45 am]

BILLING CODE 4000-01-P